DEPARTMENT OF COMMERCE

International Trade Administration

[A-533-502]

Certain Welded Carbon Steel Standard Pipes and Tubes From India: Preliminary Determination of No Shipments and Partial Rescission of Review; 2022-2023

AGENCY: Enforcement and Compliance, International Trade Administration, Department of Commerce.

SUMMARY: The U.S. Department of Commerce (Commerce) preliminarily determines that Surya Roshni Limited (Surya) made no shipments during the period of review (POR), May 1, 2022, through April 30, 2023. In addition, we are rescinding this review, in part, with respect to 29 companies. We invite interested parties to comment on these preliminary results.

DATES: Applicable February 6, 2024.

FOR FURTHER INFORMATION CONTACT: Jacob Keller, AD/CVD Operations, Office I, Enforcement and Compliance, International Trade Administration, U.S. Department of Commerce, 1401 Constitution Avenue NW, Washington, DC 20230; telephone: (202) 482-4849.

SUPPLEMENTARY INFORMATION:

Background

On May 12, 1986, Commerce published in the Federal Register the order on certain welded carbon steel standard pipes and tubes (pipe and tube) from India.¹ On May 2, 2023, Commerce published in the Federal Register a notice of opportunity to request an administrative review of the Order.² On July 12, 2023, based on timely requests for an administrative review, Commerce initiated an antidumping duty administrative review of 30 companies.³ For a detailed description of the events that followed the initiation of this review, see the Preliminary Decision Memorandum.⁴

¹ See Antidumping Duty Order; Certain Welded Carbon Steel Standard Pipes and Tubes from India, 51 FR 17384 (May 12, 1986) (Order).

² See Antidumping or Countervailing Duty Order, Finding, or Suspended Investigation; Opportunity to Request Administrative Review and Join Annual Inquiry Service List, 88 FR 27445 (May 2, 2023).

³ See Initiation of Antidumping and Countervailing Duty Administrative Reviews, 88 FR 44262 (July 12, 2023) (Initiation Notice).

⁴ See Memorandum, “Decision Memorandum for the Preliminary Determination of No Reviewable Sales and Partial Rescission of Review: Certain Welded Carbon Steel Standard Pipes and Tubes from India; 2022-2023,” dated concurrently with, and hereby adopted by, this notice (Preliminary Decision Memorandum).

For a full description of the methodology underlying these preliminary results, see the Preliminary Decision Memorandum. A list of the topics discussed in the Preliminary Decision Memorandum is attached as Appendix I to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is directly available at: https://access.trade.gov/public/FRNoticesListLayout.aspx.

Scope of the Order

The products covered by the Order include certain welded carbon steel standard pipes and tubes with an outside diameter of 0.375 inch or more but not over 16 inches. A full description of the scope of the Order is contained in the Preliminary Decision Memorandum.

Partial Rescission of Review

Pursuant to 19 CFR 351.213(d)(1), Commerce will rescind an administrative review, in whole or in part, if the party that requested a review withdraws its request within 90 days of the date of publication of the notice of initiation. Nucor Tubular Products Inc. (Nucor), a domestic interested party, timely withdrew its request for an administrative review of the 29 companies listed in Appendix II within 90 days of the date of publication of the Initiation Notice.⁵ As a result, Commerce is rescinding this review with respect to these companies, in accordance with 19 CFR 351.213(d)(1).

⁵ See Nucor's Letter, “Partial Withdrawal of Request for Administrative Review,” dated September 29, 2023.

Preliminary Determination of No Shipments

Based on record information, we preliminarily determine that Surya did not have knowledge that the subject merchandise was destined for the United States, and, thus, Surya is not considered the exporter of subject merchandise during the POR for the purposes of this review.⁶ Therefore, we preliminarily determine that Surya made no shipments of subject merchandise during the POR. Consistent with Commerce's practice, we find that it is not appropriate to rescind the review with respect to Surya, but rather to complete the review and issue appropriate instructions to CBP based on the final results of this review.⁷

⁶ See Preliminary Decision Memorandum at 3-4.

⁷ See Antidumping and Countervailing Duty Proceedings: Assessment of Antidumping Duties, 68 FR 23954 (May 6, 2003).

Methodology

Commerce is conducting this review in accordance with section 751(a) of the Tariff Act of 1930, as amended (the Act). For a full description of the methodology underlying our conclusions, see the Preliminary Decision Memorandum.

Disclosure

Normally, Commerce will disclose to the parties in a proceeding the calculations performed in connection with the preliminary results within five days of any public announcement or, if there is no public announcement, within five days of the date of publication of the notice of the preliminary results in the Federal Register, in accordance with 19 CFR 351.224(b). However, because Commerce is rescinding the review for 29 companies and preliminarily finding that Surya made no shipments of subject merchandise during the POR, there are no calculations to disclose.

Public Comment

Pursuant to 19 CFR 351.309(c), interested parties may submit case briefs no later than 30 days after the date of publication of this notice. Rebuttal briefs, limited to issues raised in the case briefs, may be filed not later than five days after the date for filing case briefs.⁸ Interested parties who submit case briefs or rebuttal briefs in this proceeding must submit: (1) a table of contents listing each issue; and (2) a table of authorities.⁹

⁸ See 19 CFR 351.309(d); see also Administrative Protective Order, Service, and Other Procedures in Antidumping and Countervailing Duty Proceedings, 88 FR 67069, 67077 (September 29, 2023) (APO and Service Final Rule).

⁹ See 19 CFR 351.309(c)(2) and (d)(2).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁰ Further, we request that interested parties limit their executive summary of each issue to no more than 450 words, no including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹¹

¹⁰ We use the term “issue” here to describe an argument that Commerce would normally address in a comment of the Issues and Decision Memorandum.

¹¹ See APO and Service Final Rule.

Pursuant to 19 CFR 351.310(c), interested parties who wish to request a hearing must submit a written request to the Assistant Secretary for Enforcement and Compliance, filed electronically via Commerce's electronic records system, ACCESS. Requests should contain: (1) the party's name, address, and telephone number; (2) the number of participants; and (3) a list of issues to be discussed. Issues raised in the hearing will be limited to those raised in the respective case briefs.

A submission in ACCESS must be received successfully in its entirety by 5:00 p.m. Eastern Time within 30 days after the date of publication of this notice.

Assessment Rates

For entries of subject merchandise during the POR produced by Surya, we will instruct CBP to liquidate suspended entries at the all-others rate if there is no rate for the intermediate company(ies) involved in the transaction.¹²

¹² For a full discussion of this practice, see Antidumping and Countervailing Duty Proceedings: Assessment of Antidumping Duties, 68 FR 23954 (May 6, 2003).

For the companies for which this review is rescinded with these preliminary results, we will instruct CBP to assess antidumping duties on all appropriate entries at a rate equal to the cash deposit of estimated antidumping duties required at the time of entry, or withdrawal from warehouse, for consumption, during the period May 1, 2022, through April 30, 2023, in accordance with 19 CFR 351.212(c)(l)(i).

For the remaining companies, Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

The final results of this administrative review shall be the basis for the assessment of antidumping duties on entries of merchandise covered by the final results of this review and for future deposits of estimated duties, where applicable.

Final Results of Review

Unless the deadline is otherwise extended, Commerce intends to issue the final results of this administrative review, including the results of its analysis of issues raised by interested parties in the case and rebuttal briefs, within 120 days of publication of these preliminary results in the Federal Register, pursuant to section 751(a)(3)(A) of the Act and 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of doubled antidumping duties.

Notification to Interested Parties

We are issuing and publishing these preliminary results in accordance with sections 751(a)(1) and 777(i)(1) of the Act, and 19 CFR 351.221(b)(4).

Dated: January 30, 2024.
Abdelali Elouaradia,
Deputy Assistant Secretary for Enforcement and Compliance.

Appendix I

List of Topics Discussed in the Preliminary Decision Memorandum

I. Summary

II. Background

III. Scope of the Order

IV. Partial Rescission of Review

V. Preliminary Determination of No Shipments

VI. Recommendation

Appendix II

List of Companies Subject to Rescission of Review

1. Apl Apollo Tubes Limited.

2. Asian Contec Ltd.

3. Bhandari Foils & Tubes Ltd.

4. Bhushan Steel Ltd.

5. Blue Moon Logistics Pvt. Ltd.

6. CH Robinson Worldwide.

7. Ess-Kay Engineers.

8. Manushi Enterprise.

9. Nishi Boring Corporation.

10. Garg Tube Export LLP; Garg Tube Limited.

11. GCL Private Limited.

12. Goodluck India Ltd.

13. GVN Fuels Ltd.

14. Fiber Tech Composite Pvt. Ltd.

15. Hydromatik.

16. Jindal Quality Tubular Ltd.

17. KLT Automatic & Tubular Products Ltd.

18. Lloyds Line Pipes Ltd.; Lloyds Metals & Engineers Limited.

19. MARINEtrans India Private Ltd.

20. Patton International Ltd.

21. Raajratna Ventures Ltd.

22. Ratnamani Metals Tubes Ltd.

23. SAR Transport Systems Pvt. Ltd.

24. Surya Global Steel Tubes Ltd.

25. Vallourec Heat Exchanger Tubes Ltd.

26. Welspun India Ltd.

27. Zenith Birla (India) Ltd.

28. Zenith Birla Steels Private Ltd.

29. Zenith Dyeintermediates Ltd.

[FR Doc. 2024-02295 Filed 2-5-24; 8:45 am]

BILLING CODE 3510-DS-P